DEPARTMENT OF THE INTERIOR

National Park Service

General Management Plan/Environmental Impact Statement, Great Sand Dunes National Monument and Preserve, Colorado

AGENCY: National Park Service, Department of the Interior.

ACTION: Notice of intent to prepare an Environmental Impact Statement for the general management plan, Great Sand Dunes National Monument and Preserve.

SUMMARY: Under the provisions of the National Environmental Policy Act of 1969, the National Park Service is preparing an Environmental Impact Statement for the general management plan for Great Sand Dunes National Monument and Preserve. The Environmental Impact Statement will be approved by the Director, Intermountain Region.

Great Sand Dunes National Monument was established by President Herbert Hoover in 1932 “for the preservation of the great sand dunes and additional features of scenic, scientific, and educational interest.” The Great Sand Dunes National Park and Preserve Act of 2000 enlarged Great Sand Dunes National Monument from 39,000 acres to almost 150,000 acres to protect the entire Great Sand Dunes natural system. The name will change to Great Sand Dunes National Park and Preserve when sufficient lands are acquired within the new boundary. The legislation expanding the park identifies a variety additional features for long term protection, including “geological, hydrological, paleontological, scenic, scientific, educational, wildlife, and recreational resources of the area.” Land in and adjacent to the Great Sand Dunes is recognized for the “culturally diverse nature of the historic settlement of the area, offering natural ecological, wildlife, cultural, scenic, paleontological, wilderness, and recreational resources.” The law further notes that the “preservation of this diversity of resources would ensure the perpetuation of the entire ecosystem for the enjoyment of future generations.” The legislation directs establishment of the “Great Sand Dunes National Park Advisory Council” to “advise the Secretary of the Interior with respect to the preparation and implementation of a management plan for the national park and preserve.”

The general management plan will prescribe the resource conditions and visitor experiences that are to be achieved and maintained in the monument over time. The clarification of what must be achieved according to law and policy will be based on review of the park's purpose, significance, special mandates, and the body of laws and policies directing park management. Management decisions to be made where law, policy, or regulations do not provide clear guidance or limits will be based on the purposes of the monument, the range of public expectations and concerns, resource analysis, an evaluation of the natural, cultural, and social impacts of alternative courses of action, and consideration of long-term economic costs. Based on determinations of desired conditions, the general management plan will outline the kinds of resource management activities, visitor activities, and development that would be appropriate in the monument in the future. Alternatives will be developed through this planning process and will include, at a minimum, no-action and the preferred alternative. Major issues include protection of natural and cultural resources; the adequacy of interpretive programs; wilderness suitability; potential partnerships with other agencies, organizations, and local interests; and land status within the new boundary.

DATES: The Park Service will accept comments from the public through April 16, 2003.

ADDRESSES: Information will be available for public review and comment in the office of the Superindent, Steve Chaney, Great Sand Dunes National Monument and Preserve, 11500 Hwy. 150, Mosca, CO 81146-9798; Tel: (719) 378-2312; (719) 378-2594; e-mail: steve_chaney@nps.gov.

FOR FURTHER INFORMATION CONTACT: Contact Superintendent Steve Chaney, Great Sand Dunes National Monument and Preserve; Tel: (719) 378-2312; (719) 378-2594.

SUPPLEMENTARY INFORMATION: The National Park Service is planning to begin public scoping in January 2003 via a newsletter to state and federal agencies; associated American Indian tribes; neighboring communities; county commissioners; local organizations, researchers and institutions; the Congressional Delegation; and visitors who signed up to be on the mailing list. In addition, the National Park Service will hold public scoping meetings regarding the general management plan, beginning in January 2003. Specific dates, times, and locations will be announced in the local media and will also be available by contacting the Superintendent of Great Sand Dunes National Monument and Preserve. There will also be opportunities for input at Advisory Council meetings. There will be a web site for the general management plan. The purpose of the newsletter, public meetings, and web site is to explain the planning process and to obtain comments concerning appropriate resource management; desired visitor experience and use, and facilities; as well as any other issues that need to be addressed. In addition to attending the scoping meetings, people wishing to provide input to this initial phase of developing the general management plan may address comments to the superintendent.

Dated: November 26, 2002.
Michael Snyder,
Deputy Director, Intermountain Region.

[FR Doc. 03-1004 Filed 1-15-03; 8:45 am]

BILLING CODE 4310-70-P